ENVIRONMENTAL PROTECTION AGENCY

[ER-FRL-8588-3]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146. An explanation of the ratings assigned to draft environmental impact statements (EISs) was published in FR dated April 6, 2008 (73 FR 19833).

Draft EISs

EIS No. 20080281, ERP No. D-NRC-A09836-00, GENERIC—In-Situ Leach Uranium Milling Facilities (NUREG-1910), Construction, Operation, Aquifer Restoration and Decommissioning, Potentially Location in Portions of WY, NE, SD, and NM.

Summary: EPA expressed environmental concerns about the potential for adverse impacts to surface and groundwater resources and air quality. We requested additional information regarding radon emissions data and recommended the development of a generic fugitive dust mitigation plan. We also recommended that the final GEIS analyze the potential costs of site clean ups and address adequate bonding requirements for site restorations in cases of company defaults. Rating EC2.

EIS No. 20080369, ERP No. D-FAA-E40822-FL, Palm Beach International Airport Project, Construction and Operation of Proposed Airfield Improvements, Funding, Palm Beach County, FL.

Summary: EPA expressed environmental concern about increases in aircraft noise exposures and air quality emissions. Rating EC2.

EIS No. 20080374, ERP No. D-FAA-D51023-PA, Philadelphia International Airport (PHL) Capacity Enhancement Program (CEP) To Accommodate Current and Future Aviation Demand, Funding and U.S. Army COE Section 404 Permit, Philadelphia, PA.

Summary: EPA expressed environmental concern about impacts to air quality, wetlands, waterways, the Enterprise Avenue Superfund Site, and local communities. Rating EC2.

EIS No. 20080407, ERP No. D-AFS-K61168-CA, Moonridge Animal Park Relocation Project, Application for a Special-Use-Permit to Construct and Operate a Wild Animal Park and Associated Facilities, Mountaintop Ranger District, San Bernardino National Forest, San Bernardino County, CA.

Summary: EPA expressed environmental concerns about insufficient air quality analysis, and narrow scope of the alternatives. EPA requested clarification of impacts to waters of the U.S. and that discussions of the traffic analysis and induced growth be improved. Rating EC2.

Final EISs

EIS No. 20080394, ERP No. F-BLM-K05064-NV, White Pine Energy Station Project, Construction and Operation, Coal-fired Electric Power Generating Plant, White Pine County, NV.

Summary: EPA continues to have environmental concerns about wetlands mitigation and climate change impacts. To compensate for the loss of wetlands, EPA recommended higher offset ratios, a longer monitoring period, and long-term protection for the mitigation site(s). In addition, EPA recommended that BLM consider additional voluntary measures to reduce greenhouse gas emissions.

EIS No. 20080428, ERP No. F-OSM-A26002-00, Excess Spoil Minimization Stream Buffer Zones, Proposed Revisions to the Permanent Program Regulations Implementing the Surface Mining Control and Reclamation Act of 1977 Concerning the Creation and Disposal of Excess Spoil and Coal Mine Waste and Stream Buffer Zones, Permit Application.

Summary: No formal comments were sent to the preparing agency. Under Section 501(B) of the Surface Mining Control and Reclamation Act, EPA will be taking action on the final Stream Buffer Zone Rule in the near future.

EIS No. 20080431, ERP No. F-NSA-A06182-00, PROGRAMMATIC—EIS—Complex Transformation, To Make the U.S. Nuclear Weapon Complex Smaller, and more Responsive, Efficient and Secure in Order to Meet National Security Requirements, CA, NV, NM, SC, TN and TX.

Summary: No formal comments were sent to the preparing agency.

EIS No. 20080446, ERP No. F-BLM-K09810-CA, Mountain View IV Wind Energy Project, Construction and Operation, Wind Turbine Generators on Public Lands in Section 22 and 28 and Private Land Section 27, Right-of-Way Grant and Conditional Use Permit in the City of Palm Springs, CA.

Summary: EPA does not object to the proposed project.

Dated: December 2, 2008.
Robert W. Hargrove,
Director, NEPA Compliance Division, Office of Federal Activities.

[FR Doc. E8-28851 Filed 12-4-08; 8:45 am]

BILLING CODE 6560-50-P